DEPARTMENT OF COMMERCE

National Oceanic and Atmospheric Administration

[RTID 0648-XC768]

Marine Mammals; File No. 27272

AGENCY: National Marine Fisheries Service (NMFS), National Oceanic and Atmospheric Administration (NOAA), Commerce.

ACTION: Notice; receipt of application.

SUMMARY: Notice is hereby given that Stellwagen Bank National Marine Sanctuary, 175 Edward Foster Road, Scituate, MA 02066 (Responsible Party: David Wiley, Ph.D.) has applied in due form for a permit to conduct research on seven species of cetaceans.

DATES: Written, telefaxed, or email comments must be received on or before March 17, 2023.

ADDRESSES: The application and related documents are available for review by selecting “Records Open for Public Comment” from the “Features” box on the Applications and Permits for Protected Species (APPS) home page, https://apps.nmfs.noaa.gov, and then selecting File No. 27272 from the list of available applications. These documents are also available upon written request via email to NMFS.Pr1Comments@noaa.gov.

Written comments on this application should be submitted via email to NMFS.Pr1Comments@noaa.gov. Please include File No. 27272 in the subject line of the email comment.

Those individuals requesting a public hearing should submit a written request via email to NMFS.Pr1Comments@noaa.gov. The request should set forth the specific reasons why a hearing on this application would be appropriate.

FOR FURTHER INFORMATION CONTACT: Sara Young or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to study seven cetacean species in the waters of the northeastern United States as well as Antarctica. The purpose of the research is to investigate the foraging ecology, habitat use, physiology, and acoustic and social behavior of these species to support ecosystem-based management and mitigate anthropogenic harm. Research would be conducted from boats and unmanned aircraft systems (UAS). Animals would be studied using photo-ID, photogrammetry, behavioral observations, collection of fecal samples, skin and blubber biopsy sampling, and suction cup tagging by a pole or UAS. Threatened and endangered species that would be studied if encountered are: fin whale (Balaenoptera physalus), sei whale (B. borealis), and North Atlantic right whales (Eubalaena glacialis). The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 9, 2023.
Julia M. Harrison,
Chief, Permits and Conservation Division, Office of Protected Resources, National Marine Fisheries Service.

[FR Doc. 2023-03132 Filed 2-14-23; 8:45 am]

BILLING CODE 3510-22-P